DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Services Accountability Improvement System—(OMB No. 0930-0208)—Revision

The Services Accountability Improvement System (SAIS) is a real-time, performance management system that captures information on the substance abuse treatment and mental health services delivered in the United States. A wide range of client and program information is captured through SAIS for approximately 650 grantees. Continued approval of this information collection will allow SAMHSA to continue to meet Government Performance and Results Act of 1993 (GPRA) reporting requirements that quantify the effects and accomplishments of its discretionary grant programs which are consistent with OMB guidance.

Based on current funding and planned fiscal year 2015 notice of funding announcements (NOFA), the CSAT programs that will use these measures in fiscal years 2015 through 2017 include: Access to Recovery 3 (ATR3); Adult Treatment Court Collaboratives (ATCC); Enhancing Adult Drug Court Services, Coordination and Treatment (EADCS); Offender Reentry Program (ORP); Treatment Drug Court (TDC); Office of Juvenile Justice and Delinquency Prevention—Juvenile Drug Courts (OJJDP-JDC); Teen Court Program (TCP); HIV/AIDS Outreach Program; Targeted Capacity Expansion Program for Substance Abuse Treatment and HIV/AIDS Services (TCE-HIV); Addictions Treatment for the Homeless (AT-HM); Cooperative Agreements to Benefit Homeless Individuals (CABHI); Cooperative Agreements to Benefit Homeless Individuals—States (CABHI—States); Recovery-Oriented Systems of Care (ROSC); Targeted Capacity Expansion—Peer to Peer (TCE—PTP); Pregnant and Postpartum Women (PPW); Screening, Brief Intervention and Referral to Treatment (SBIRT); Targeted Capacity Expansion (TCE); Targeted Capacity Expansion—Health Information Technology (TCE-HIT); Targeted Capacity Expansion Technology Assisted Care (TCE-TAC); Addiction Technology Transfer Centers (ATTC); International Addiction Technology Transfer Centers (I-ATTC); State Adolescent Treatment Enhancement and Dissemination (SAT-ED); Grants to Expand Substance Abuse Treatment Capacity in Adult Tribal Healing to Wellness Courts and Juvenile Drug Courts; and Grants for the Benefit of Homeless Individuals—Services in Supportive Housing (GBHI). Grantees in the Adult Treatment Court Collaborative program (ATCC) will also provide program-level data using the CSAT Aggregate Instrument

SAMHSA and its Centers will use the data for annual reporting required by GPRA and for NOMs comparing baseline with discharge and follow-up data. GPRA requires that SAMHSA's report for each fiscal year include actual results of performance monitoring for the three preceding fiscal years. The additional information collected through this process will allow SAMHSA to report on the results of these performance outcomes as well as be consistent with the specific performance domains that SAMHSA is implementing as the NOMs, to assess the accountability and performance of its discretionary and formula grant programs.

Note that there are no changes to the instrument from the previous OMB submission.

Estimates of Annualized Hour Burden
[CSAT GPRA Client Outcome Measures for Discretionary Programs]
SAMHSA program title | Number of respondents | Responses per respondent | Total number of responses | Burden hours per response | Total burden hours
Baseline Interview Includes SBIRT Brief TX and Referral to TX | 182,153 | 1 | 182,153 | 0.47 | 85,612
Follow-Up Interview ¹ | 134,793 | 1 | 134,793 | 0.47 | 63,353
Discharge Interview ² | 94,720 | 1 | 94,720 | 0.47 | 44,518
SBIRT Program -Screening Only ³ | 594,192 | 1 | 594,192 | 0.13 | 77,244
SBIRT Program—Brief Intervention Only ⁴ Baseline | 111,411 | 1 | 111,411 | .20 | 22,282
SBIRT Program—Brief Intervention Only Follow-Up ¹ | 82,444 | 1 | 82,444 | .20 | 16,489
SBIRT Program—Brief Intervention Only Discharge ² | 57,934 | 1 | 57,934 | .20 | 11,587
CSAT Total | 887,756 |  | 1,257,647 |  | 321,085
* Notes:
1. It is estimated that 74% of baseline clients will complete this interview.
2. It is estimated that 52% of baseline clients will complete this interview.
3. The estimated number of SBIRT respondents receiving screening services is 80% of the total number SBIRT participants. No further data is collected from these participants.
4. The estimated number of SBIRT respondents receiving brief intervention services is 15% of the total number SBIRT participants.

Written comments and recommendations concerning the proposed information collection should be sent by January 8, 2016 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-31023 Filed 12-8-15; 8:45 am]

BILLING CODE 4162-20-P